DEPARTMENT OF HEALTH AND HUMAN SERVICES

Centers for Disease Control and Prevention

Breast and Cervical Cancer Early Detection and Control Advisory Committee Meeting

In accordance with section 10(a)(2) of the Federal Advisory Committee Act (Pub. L. 92-463), the Centers for Disease Control and Prevention (CDC) announces the following committee meeting.

Name: Breast and Cervical Cancer Early Detection and Control Advisory Committee.

Times and Date: 1 p.m.-4:45 p.m., March 13, 2001 9 a.m.-5 p.m. March 14, 2001.

Place: The Crowne Plaza Hotel, 1325 Virginia Ave, Atlanta, Georgia. Telephone: (404) 768-6660.

Status: Open to the public limited only by the space available.

Purpose: This committee is charged with providing advice and guidance to the Secretary, and the Director of CDC, regarding the need for early detection and control of breast and cervical cancer and to evaluate the Department's current breast and cervical cancer early detection and control activities.

Matters To Be Discussed: The discussion will primarily focus on the role of the CDC in Comprehensive Cancer Control.

Members of the public who wish to make a brief oral presentation at the meeting should contact Ms. Tamikio Bohler (770-488-3199) or Ms. Regina Seider (770/488-3078) by 4:00 p.m. on March 1, 2001, to have time reserved on the agenda. Each individual or group making an oral presentation will be limited to 5 minutes. The request should identify the name of the individual who will make the presentation and an outline of the issues to be addressed. At least 25 copies of the presentation and 25 copies of the visual aids used at the meeting are to be given to Ms. Bohler no later than the time of the presentation for distribution to the Committee and the interested public.

Contact Person for Additional Information: Tamikio Bohler, Division of Cancer Prevention and Control, National Center for Chronic Disease Prevention and Health Promotion, CDC, 4770 Buford Highway, NE, M/S K-64, Atlanta, Georgia 30341-3724, telephone 770/488-3199.

The Director, Management Analysis and Services office has been delegated the authority to sign Federal Register notices pertaining to announcements of meetings and other committee management activities, for both the Centers for Disease Control and Prevention and the Agency for Toxic Substances and Disease Registry.

Dated: February 16, 2001.
Carolyn J. Russell,
Director, Management Analysis and Services Office, Centers for Disease Control and Prevention.

[FR Doc. 01-4472 Filed 2-22-01; 8:45 am]

BILLING CODE 4163-18-P